ENVIRONMENTAL PROTECTION AGENCY

40 CFR Part 52

[EPA-R02-OAR-2019-0720; FRL-10017-00-Region 2]

Approval of Source-Specific Air Quality Implementation Plans; New Jersey

AGENCY: Environmental Protection Agency.

ACTION: Final rule.

SUMMARY: The Environmental Protection Agency (EPA) approves a revision to the State of New Jersey's State Implementation Plan (SIP) for the ozone National Ambient Air Quality Standard (NAAQS) related to a source-specific SIP for CMC Steel New Jersey, located at 1 N Crossman, Sayreville, New Jersey (Facility). The control options in this source-specific SIP address volatile organic compounds (VOC) and nitrogen oxide (NOX) Reasonably Available Control Technology (RACT) for the Facility's electric arc furnace (Sayreville EAF) to continue to operate under the current New Jersey Department of Environmental Protection (NJDEP) approved VOC and NOX emission limits for the Sayreville EAF.

DATES: The final rule is effective on March 19, 2021.

ADDRESSES: The EPA has established a docket for this action under Docket ID Number EPA-R02-OAR-2019-0720. All documents in the docket are listed on the http://www.regulations.gov website. Although listed in the index, some information is not publicly available, e.g., Confidential Business Information or other information whose disclosure is restricted by statute. Certain other material, such as copyrighted material, is not placed on the internet and will be publicly available only in hard copy form. Publicly available docket materials are available electronically through http://www.regulations.gov.

FOR FURTHER INFORMATION CONTACT: Linda Longo, Air Programs Branch, Environmental Protection Agency, Region 2 Office, 290 Broadway, 25th Floor, New York, New York 10007-1866, (212) 637-3565, or by email at longo.linda@epa.gov.

SUPPLEMENTARY INFORMATION:

Table of Contents

I. Background

II. The EPA's Evaluation of New Jersey's Submittal

III. What comments were received in response to the EPA's proposed action?

IV. Summary of EPA's Final Action

V. Incorporation by Reference

VI. Statutory and Executive Order Reviews

I. Background

The EPA approves a revision to the State of New Jersey's (the State) SIP for attainment and maintenance of the ozone National Ambient Air Quality Standards (NAAQS). On July 15, 2020 (85 FR 42803), the EPA proposed to approve the State's April 30, 2019, SIP revision, which relates to the application of the New Jersey Administrative Code (NJAC) Title 7, Chapter 27, Subchapter 16, “Control and Prohibition of Air Pollution from Volatile Organic Compounds” (NJAC 7:27-16) and the NJAC, Title 7, Chapter 27, Subchapter 19, “Control and Prohibition of Air Pollution from Oxides of Nitrogen” (NJAC 7:27-19) to the Sayreville EAF. Under this SIP revision, the emission limits for VOC and NOX for the Sayreville EAF are the lowest emission limits achievable with the application of control technology that is reasonably available given the technological and economic feasibility considerations associated with operating the Sayreville EAF (i.e., RACT for the Sayreville EAF). The Facility is allowed to continue to operate under its current approved emission limits of 57 pounds per hour (lb/hr) of VOC and 31 lb/hr of NOX for the Sayreville EAF, because its request to be covered under alternative control plans for VOC pursuant to NJAC 7:27 Subchapter 16 and for NOX pursuant to NJAC 7:27 Subchapter 19 met the State's deadlines and statutory criteria for approval. A full summary of EPA's findings for this source-specific SIP revision is included in the technical support document that is contained in EPA's docket assigned to this Federal Register document.

II. The EPA's Evaluation of New Jersey's Submittals

The EPA's approval is based on the conclusion that the State's April 30, 2019 SIP revision to authorizing the Facility to continue to operate under existing VOC and NOX emission limits for the Sayreville EAF operated by CMC Steel New Jersey conforms with the State's regulations under NJAC 7:27-16.17 and NJAC 7:27-19.13. After reviewing CMC Steel New Jersey's updated facility-specific VOC and NOX control plans, which were submitted to NJDEP, that are the subject of this source-specific SIP revision, the EPA makes the following determination:

(1) The Facility qualifies to continue to operate under the current NJDEP-approved emission limits for VOC and NOX. Under NJAC: 7:27-16.17(c)(3), facilities that sought to continue operating with an alternative VOC control plan that was approved prior to May 19, 2009, were required to submit updated proposed VOC control plans to NJDEP for review by August 17, 2009. Similarly, under NJAC: 7:27-19.13(a)(3), facilities that sought to continue to operate under existing facility-specific NOX control plans that were approved prior to May 1, 2005, were required to submit updated proposed NOX control plans to NJDEP for review by August 17, 2009. The Facility met both deadlines with the submission of its VOC and NOX control plans, respectively.

(2) The Facility's Operating Permit, issued pursuant to Title V of the Clean Air Act (CAA), 42 U.S.C. 7661a, describes a facility-specific VOC emission limit of 57 lb/hr and a facility-specific maximum allowable NOX emission limit of 31 lb/hr, both of which are consistent with the updated VOC and NOX control plans that are the subject of this SIP revision.

(3) The EPA's consultation with air pollution control experts from NJDEP and EPA confirms the Facility's RACT analysis conclusion that no comparable electric arc furnace emission control technologies are deployed at other facilities nationwide. For a detailed explanation and evaluation of the SIP revision, refer to the proposed rulemaking. See 85 FR 42803, July 15, 2020.

III. What comments were received in response to the EPA's proposed action?

The EPA received no public comments in response to the July 15, 2020 proposed rulemaking. Therefore, the EPA approves this SIP revision with no further changes.

IV. Summary of the EPA's Final Action

The EPA approves the State of New Jersey's SIP revision dated April 30, 2019, which includes a source-specific SIP for CMC Steel New Jersey, located at 1 N Crossman, Sayreville, New Jersey. The control options in this source-specific SIP address the State of New Jersey's RACT requirements included in NJAC 7:27-16, “Control and Prohibition of Air Pollution from Volatile Organic Compounds” and New Jersey NJAC 7:27-19, “Control and Prohibition of Air Pollution from Oxides of Nitrogen”, both effective January 16, 2018. The EPA makes the following findings: (1) The Facility met NJDEP's statutory criteria and deadlines to qualify for continuing to operate under existing VOC and NOX emission limits; (2) the Facility meets emission limits set by NJDEP for VOC emission rate at 57 lb/hr and for NOX emission rate at 31 lb/hr; and (3) the Facility implements RACT controls for VOC and NOX—for VOC, through execution of the Scrap Management Plan and operating a direct evacuation system and for NOX, through application of good operating practices that maintain a constant temperature in the preheater chamber and minimizes electricity consumption to avoid indirect NOX emissions. The Facility has demonstrated that it meets all applicable requirements of the CAA and it will not interfere with any applicable requirements pertaining to attainment of the NAAQS and reasonable further progress or with any other applicable requirement of the CAA.

V. Incorporation by Reference

In this document, the EPA is finalizing regulatory text that includes incorporation by reference. In accordance with requirements of 1 CFR 51.5, the EPA is incorporating by reference the provisions described above in Section IV. Summary of the EPA's Final Action. The EPA has made, and will continue to make, these materials generally available through www.regulations.gov and at the EPA Region 2 Office (please contact the person identified in the FOR FURTHER INFORMATION CONTACT section of this preamble for more information). Therefore, these materials have been approved by the EPA for inclusion in the State Implementation Plan, have been incorporated by reference by the EPA into that plan, are fully federally enforceable under sections 110 and 113 of the CAA as of the effective date of the final rulemaking of the EPA's approval, and will be incorporated by reference in the next update to the SIP compilation.¹

¹ 62 FR 27968 (May 22, 1997).

VI. Statutory and Executive Order Reviews

Under the Clean Air Act, the Administrator is required to approve a SIP submission that complies with the provisions of the Act and applicable Federal regulations. 42 U.S.C. 7410(k); 40 CFR 52.02(a). Thus, in reviewing SIP submissions, the EPA's role is to approve state choices, provided that they meet the criteria of the Clean Air Act. Accordingly, this action merely approves state law as meeting Federal requirements and does not impose additional requirements beyond those imposed by state law. For that reason, this final action:

• Is not a significant regulatory action subject to review by the Office of Management and Budget under Executive Order 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the Clean Air Act; and

• Does not provide the EPA with the discretionary authority to address, as appropriate, disproportionate human health or environmental effects, using practicable and legally permissible methods, under Executive Order 12898 (59 FR 7629, February 16, 1994).

In addition, the SIP is not approved to apply on any Indian reservation land or in any other area where the EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by April 19, 2021. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2)).

List of Subjects 40 CFR Part 52

Environmental protection, Air pollution control, Incorporation by reference, Intergovernmental relations, Oxides of nitrogen, Ozone, Reporting and recordkeeping requirements, Volatile organic compounds.

Authority: 42 U.S.C. 7401 et seq.

Dated: February 10, 2021.
Walter Mugdan,
Acting Regional Administrator, Region 2.

PART 52—APPROVAL AND PROMULGATION OF IMPLEMENTATION PLANS

1. The authority citation for part 52 continues to read as follows:

Authority: 42 U.S.C. 7401 et seq.

Subpart FF—New Jersey

2. Section 52.1570 is amended in paragraph (d) by adding an entry for CMC Steel New Jersey to the end of the table to read as follows:

§ 52.1570 Identification of plan.

* * * * *

(d) * * *

EPA-Approved New Jersey Source-Specific Provisions
Name of source | Identifier No. | State effective date | EPA approval date | Comments
* * * * * * *
CMC Steel New Jersey | BOP 150002; PI 18052; Emission Unit U1 | May 1, 2019 | February 17, 2021 | None.

* * * * *

[FR Doc. 2021-03055 Filed 2-16-21; 8:45 am]

BILLING CODE 6560-50-P